DEPARTMENT OF TRANSPORTATION

Federal Aviation Administration

Agency Information Collection Activity Seeking OMB Approval

AGENCY: Federal Aviation Administration (FAA), DOT.

ACTION: Notice.

SUMMARY: The FAA invites public comment about our intention to request the Office of Management and Budget's (OMB) extension without change of a current information collection. The Federal Register Notice with a 60-day comment period soliciting comments on the following collection of information was published on September 14, 2006, vol. 71, no. 178, pages 54329-54330. This information is needed to obtain accurate billing information for FAA air traffic and related services for certain aircraft that transit U.S. controlled airspace but neither take off from, nor land in, the United States.

DATES: Please submit comments by March 7, 2007.

FOR FURTHER INFORMATION CONTACT: Carla Mauney at Carla.Mauney@faa.gov.

SUPPLEMENTARY INFORMATION:

Federal Aviation Administration (FAA)

Title: Overflight Billing and Collection Customer Information Form.

Type of Request: Revision of a current approved collection.

OMB Control Number: 2120-0618.

Form(s): There are no FAA forms associated with this collection.

Affected Public: An estimated 600 Respondents.

Frequency: This information is collected on occasion.

Estimated Average Burden Per Response: Approximately 5 minutes per response.

Estimated Annual Burden Hours: An estimated 50 hours annually.

Abstract: This information is needed to obtain accurate billing information for FAA air traffic and related services for certain aircraft that transit U.S. controlled airspace but neither take off from, nor land in, the United States. The respondents are air carriers who meet the criteria of transiting U.S. controlled airspace.

ADDRESSES: Interested persons are invited to submit written comments on the proposed information collection to the Office of Information and Regulatory Affairs, Office of Management and Budget. Comments should be addressed to Nathan Lesser, Desk Officer, Department of Transportation/FAA, and sent via electronic mail to oiro_submission@omb.eop.gov or faxed to (202) 395-6974.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on January 29, 2007.
Carla Mauney,
FAA Information Collection Clearance Officer, Strategy and Investment Analysis Division, AIO-20.

[FR Doc. 07-466 Filed 2-2-07; 8:45 am]

BILLING CODE 4910-13-M